DEPARTMENT OF COMMERCE

International Trade Administration

[A-570-932]

Certain Steel Threaded Rod From the People's Republic of China; 2012-2013; Partial Rescission of the Fourth Antidumping Duty Administrative Review

AGENCY: Import Administration, International Trade Administration, Department of Commerce.

SUMMARY: On June 3, 2013, the Department of Commerce (“the Department”) published a notice of initiation of an administrative review of the antidumping duty order on certain steel threaded rod from the People's Republic of China (“PRC”) based on multiple timely requests for an administrative review, and on August 28, 2013, the Department issued a correction to the notice of initiation. The review covers 80 companies. Based on a withdrawal of the requests for review of certain companies from Vulcan Threaded Products, Inc. (“Petitioner”), we are now rescinding this administrative review with respect to seven companies.

DATES: Effective Date: September 13, 2013.

FOR FURTHER INFORMATION CONTACT: Julia Hancock or Jerry Huang, AD/CVD Operations, Office 9, Import Administration, International Trade Administration, U.S. Department of Commerce, 14th Street and Constitution Avenue NW., Washington, DC 20230; telephone (202) 482-1394 or (202) 482-4047, respectively.

Background

In April 2013, the Department received multiple timely requests to conduct an administrative review of the antidumping duty order on certain steel threaded rod from the PRC (“the Order”). Based upon these requests, on June 3, 2013, the Department published a notice of initiation of an administrative review of the Order covering the period April 1, 2012, to March 31, 2013.¹ The Department incorrectly included three companies in the Initiation Notice, which was corrected in the August Initiation Notice, where the Department removed these three companies and instead initiated on two other companies.² The Department has initiated an administrative review with respect to 80 companies. On July 5, 2013, Petitioner withdrew its request for an administrative review on Certified Products International Inc. (“CPI”); Gem-Year Industrial Co., Ltd. (“Gem Year”); Haiyan Julong Standard Part Co., Ltd. (“Haiyan Julong”); Jiashan Zhongsheng Metal Products Co., Ltd. (“Jiashan Zhongsheng”); Jiaxing Xinyue Standard Part Co., Ltd. (“Jiaxing Xinyue”); Suntec Industries Co., Ltd. (“Suntec Industries”); and Shanghai Prime Machinery Co., Ltd. (“Shanghai Prime”).³ Petitioner was the only party to request a review of these companies.

¹ See Initiation of Antidumping and Countervailing Duty Administrative Reviews and Request for Revocation in Part, 78 FR 33052, 33056-8 (June 3, 2013) (“Initiation Notice”).

² See Initiation of Antidumping and Countervailing Duty Administrative Reviews and Request for Revocation in Part, 78 FR 53128, 53130 (August 28, 2013) (“August Initiation Notice”) at footnote 6. Moreover, in August Initiation Notice at footnote 5, the Department intended to state that “{i}f one of the companies for which a review was requested does not qualify for a separate rate, all other exporters of Certain Steel Threaded Rod from the PRC who have not qualified for a separate rate are deemed to be covered by this review as part of the single PRC entity of which the named exporters are a part.”

³ We note that there are additional companies for which all review requests were withdrawn within the 90 day period. See Letter to the Department from Petitioner, Re: Certain Steel Threaded Rod from the People's Republic of China: Petitioners' Withdrawal of Review Requests for Certain Companies, (July 5, 2013). These additional companies for which all review requests were withdrawn do not have a separate rate from a prior segment of this proceeding. We intend to address the disposition of these companies in the preliminary results of this review.

Partial Rescission

Pursuant to 19 CFR 351.213(d)(1), the Secretary will rescind an administrative review, in whole or in part, if a party who requested the review withdraws the request within 90 days of the date of publication of notice of initiation of the requested review. Petitioner's requests for review of CPI, Gem Year, Haiyan Julong, Jiashan Zhongsheng, Jiaxing Xinyue, Suntec Industries, and Shanghai Prime were withdrawn within the 90-day period. Because Petitioner's requests for review were timely withdrawn and because no other party requested a review of CPI, Gem Year, Haiyan Julong, Jiashan Zhongsheng, Jiaxing Xinyue, Suntec Industries, and Shanghai Prime, and each have separate rates from a prior segment of the proceeding, in accordance with 19 CFR 351.213(d)(1), we are partially rescinding this review with respect to these companies.

Assessment Rates

The Department will instruct U.S. Customs and Border Protection (“CBP”) to assess antidumping duties on all appropriate entries.⁴ Because CPI, Gem Year, Haiyan Julong, Jiashan Zhongsheng, Jiaxing Xinyue, Suntec Industries, and Shanghai Prime have a separate rate from a prior segment of this proceeding, antidumping duties shall be assessed at rates equal to the cash deposit of estimated antidumping duties required at the time of entry, or withdrawal from warehouse, for consumption, in accordance with 19 CFR 351.212(c)(2). The Department intends to issue appropriate assessment instructions directly to CBP 15 days after publication of this notice.

⁴ See 19 CFR 351.212(b)(1).

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (“APO”) of their responsibility concerning the return or destruction of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

This notice is issued and published in accordance with section 777(i)(1) of the Tariff Act of 1930, as amended, and 19 CFR 351.213(d)(4).

Dated: September 6, 2013.
Christian Marsh,
Deputy Assistant Secretary for Antidumping and Countervailing Duty Operations.

[FR Doc. 2013-22361 Filed 9-12-13; 8:45 am]

BILLING CODE 3510-DS-P